DEPARTMENT OF THE TREASURY

Fiscal Service

31 CFR Part 356

Sale and Issue of Marketable Book-Entry Bills, Notes, and Bonds; Correction

AGENCY: Bureau of the Public Debt, Fiscal Service, Treasury.

ACTION: Final rule; correction.

SUMMARY: The Bureau of the Public Debt published a final rule in the September 30, 2005, Federal Register, amending the Sale and Issue of Marketable Book-Entry Treasury Bills, Notes, and Bonds to permit Treasury bills, notes, and bonds to be held in the TreasuryDirect system. Several paragraphs were inadvertently omitted. This correction document corrects that omission.

DATES: Effective November 29, 2005.

ADDRESSES: You can download this correction at the following Internet address: http://www.publicdebt.treas.gov.

FOR FURTHER INFORMATION CONTACT: Chuck Andreatta, Associate Director, Government Securities Regulations Staff, Bureau of the Public Debt, at (202) 504-3632 or govsecreg@bpd.treas.gov.

Susan Klimas, Attorney-Adviser, Dean Adams, Assistant Chief Counsel, or Edward Gronseth, Deputy Chief Counsel, Office of the Chief Counsel, Bureau of the Public Debt, at (304) 480-8692 or susan.klimas@bpd.treas.gov.

SUPPLEMENTARY INFORMATION: The Bureau of the Public Debt published in the September 30, 2005, Federal Register (70 FR 57437), a final rule that amended 31 CFR part 356, the Sale and Issue of Marketable Book-Entry Treasury Bills, Notes, and Bonds, to permit investors to hold Treasury bills, notes, and bonds in the TreasuryDirect system. In section 356.17, several already-existing paragraphs were inadvertently deleted. This document corrects the deletion.

List of Subjects in 31 CFR Part 356

Bonds, Federal Reserve System, Government securities, Securities.

Accordingly, 31 CFR part 356 is corrected by making the following correcting amendments:

PART 356—SALE AND ISSUE OF MARKETABLE BOOK-ENTRY TREASURY BILLS, NOTES, AND BONDS (DEPARTMENT OF THE TREASURY CIRCULAR, PUBLIC DEBT SERIES NO. 1-93)

1. The authority citation for part 356 continues to read as follows:

Authority: 5 U.S.C. 301; 31 U.S.C. 3102 et seq.; 12 U.S.C. 391.

2. In § 356.17, add paragraphs (d)(1) and (d)(2), to read as follows:

§ 356.17 How and when do I pay for securities awarded in an auction?

* * * * *

(d) * * *

(1) A submitter that does not have a funds account at a Federal Reserve Bank or that chooses not to pay by charge to its own funds account must have an approved autocharge agreement on file with us before submitting any bids. Any depository institution whose funds account will be charged under an autocharge agreement will receive advance notice from us of the total par amount of, and price to be charged for, securities awarded as a result of the submitter's bids.

(2) A submitter that is a member of a clearing corporation may instruct that delivery and payment be made through the clearing corporation for securities awarded to the submitter for its own account. To do this, the following requirements must be met prior to submitting any bids:

(i) We must have acknowledged and have on file an autocharge agreement between the clearing corporation and a depository institution. By entering into such an agreement, the clearing corporation authorizes us to provide aggregate par and price information to the depository institution whose funds account will be charged under the agreement. The clearing corporation is responsible for remitting payment for auction awards of the clearing corporation member.

(ii) We must have acknowledged and have on file a delivery and payment agreement between the submitter and the clearing corporation. By entering into such an agreement, the submitter authorizes us to provide award and payment information to the clearing corporation.

Dated: November 21, 2005.
Van Zeck,
Commissioner of the Public Debt.

[FR Doc. 05-23333 Filed 11-28-05; 8:45 am]

BILLING CODE 4810-39-M